DEPARTMENT OF DEFENSE

Office of the Secretary

Renewal of Department of Defense Federal Advisory Committees

AGENCY: DoD.

ACTION: Renewal of Federal Advisory Committee.

SUMMARY: Under the provisions of the Federal Advisory Committee Act of 1972, (5 U.S.C. appendix, as amended), the Government in the Sunshine Act of 1976 (5 U.S.C. 552b, as amended), and 41 CFR 102-3.65, the Department of Defense gives notice that it is renewing the charter for the Defense Science Board (hereafter referred to as the Board).

The Board is a discretionary federal advisory committee established by the Secretary of Defense to provide the Department of Defense independent advice and recommendations on scientific, technical, manufacturing, acquisition process, and other matters of special interest to the Department of Defense.

The Board is not established to advise on individual DoD procurements, but instead shall be concerned with the pressing and complex technology problems facing the Department of Defense in such areas as research, engineering, and manufacturing, and will ensure the identification of new technologies and new applications of technology in those areas to strengthen national security. No matter shall be assigned to the Board for its consideration that would require any Board Member to participate personally and substantially in the conduct of any specific procurement or place him or her in the position of acting as a “procurement official,” as that term is defined pursuant to law.

The Board shall be composed of approximately 35 members and approximately six Senior Fellow members, who are eminent authorities in the fields of scientific, technical, manufacturing, acquisition process, and other matters of special interest to the Department of Defense.

The Board members shall be appointed by the Secretary of Defense, and their appointments will be renewed on an annual basis. Those members, who are not full-time federal officers or employees, shall serve as Special Government Employees under the authority of 5 U.S.C. 3109.

The Secretary of Defense, based upon the recommendation of the Under Secretary of Defense (Acquisition, Technology and Logistics), shall appoint the Board's Chairperson. The Under Secretary of Defense (Acquisition, Technology and Logistics) shall appoint the Vice Chairperson. The Board Chairman and Vice Chairman will be appointed for two-year terms and may be reappointed for additional terms.

Members may be appointed for terms ranging from one to four years. Such appointments will normally be staggered among the Board membership to ensure an orderly turnover in the Board's overall composition on a periodic basis. With the exception of travel and per diem for official travel, they shall normally serve without compensation, unless otherwise authorized by the appointing authority.

The Secretary of Defense may invite other distinguished Government officers to serve as non-voting Observers of the Board, and these appointments shall not count toward the Board's total membership.

The Under Secretary of Defense (Acquisition, Technology, and Logistics) may appoint consultants, with special expertise, to assist the Board on an ad hoc basis. All consultants shall serve as Special Government Employees under the authority of 5 U.S.C. 3109. In addition, the Under Secretary of Defense (Acquisition, Technology and Logistics) may identify chairpersons from other advisory committees to serve on the Board. These individuals will sit as observers only and shall not vote on matters before the Board.

The Board shall be authorized to establish subcommittees, as necessary and consistent with its mission, and these subcommittees or working groups shall operate under the provisions of the Federal Advisory Committee Act of 1972, the Government in the Sunshine Act of 1976, and other appropriate federal regulations.

Such subcommittees or workgroups shall not work independently of the chartered Board, and shall report all their recommendations and advice to the Board for full deliberation and discussion. Subcommittees or workgroups have no authority to make decisions on behalf of the chartered Board nor can they report directly to the Department of Defense or any federal officers or employees who are not Board members.

SUPPLEMENTARY INFORMATION: The Board shall meet at the call of the Board's Designated Federal Officer, in consultation with the Board's chairperson. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Defense Science Board membership about the Board's mission and functions. Written statements may be submitted at any time or in response to the stated agenda of planned meeting of the Defense Science Board.

All written statements shall be submitted to the Designated Federal Officer for the Defense Science Board, and this individual will ensure that the written statements are provided to the membership for their consideration. Contact information for the Defense Science Board's Designated Federal Officer can be obtained from the GSA's FACA Database— https://www.fido.gov/facadatabase/public.asp.

The Designated Federal Officer, pursuant to 41 CFR 102-3.150, will announce planned meetings of the Defense Science Board. The Designated Federal Officer, at that time, may provide additional guidance on the submission of written statements that are in response to the stated agenda for the planned meeting in question.

FOR FURTHER INFORMATION CONTACT: Jim Freeman, Deputy Committee Management Officer for the Department of Defense, 703-601-6128.

Dated: March 14, 2008.
L.M. Bynum,
Alternate OSD Federal Register Liaison Officer, Department of Defense.

[FR Doc. E8-5634 Filed 3-19-08; 8:45 am]

BILLING CODE 5001-06-P